DEPARTMENT OF THE INTERIOR

Bureau of Land Management

[NV-030-1610-DH; N-66363]

Notice of Availability and Public Meeting for the Proposed Southern Washoe County Urban Interface Plan Amendment and Environmental Assessment, Proposed Designation of Three Areas of Critical Environmental Concern, and Proposed Withdrawal of Public Land; Washoe County, Nevada

AGENCY: Bureau of Land Management, Department of the Interior.

ACTION: Notice of availability and public meeting for a proposed resource management plan amendment, proposed designation of three Areas of Critical Environmental Concern (ACECs), and proposed withdrawal of public land.

SUMMARY: The Bureau of Land Management (BLM) Carson City, Nevada Field Office and Washoe County have jointly prepared the Proposed Southern Washoe County Urban Interface Plan Amendment to address future management of public lands in the open and mountainous terrain of southern Washoe County's urban, suburban, and rural residential areas. The document is available for public and agency review and a public open house is scheduled in accordance with 43 CFR 1610.2 and 2310.3-1. to discuss the proposed plan amendment, proposed ACEC's, and proposed withdrawal of 160,620 acres of Federal lands and 15,800 acres of federally reserved minerals. BLM and Washoe County staff will be available to answer questions and take comments at the following public open house: August 24, 2000, 5:30 p.m.-7:30 p.m., Bureau of Land Management (Conference Rooms A and B), 1340 Financial Boulevard, Reno, Nevada.

DATES: Comments will be accepted until September 22, 2000.

ADDRESSES: Comments should be sent to: Bureau of Land Management, Carson City Field Office, 5665 Morgan Mill Road, Carson City, NV 89701, Attn: Terri Knutson, Project Manager. Comments may also be sent via electronic mail to the following address: tknutson@nv.blm.gov or via fax: (775) 885-6147.

Comments, including names and addresses of respondents, will be available for public review at the above address during regular business hours (7:30 a.m.-5:00 p.m.), Monday through Friday, except holidays, and may be published as part of the document. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

FOR FURTHER INFORMATION CONTACT: Terri Knutson, Carson City BLM, at (775) 885-6156 or Bill Whitney, Washoe County at (775) 328-3617.

After the review period ends for the proposed plan amendment, proposed ACECs, and proposed withdrawal, comments will be analyzed and considered jointly by the BLM and Washoe County in preparing the final plan amendment and withdrawal.

Dated: July 18, 2000.
John Singlaub,
Manager, Carson City Field Office.

[FR Doc. 00-18598 Filed 7-21-00; 8:45 am]

BILLING CODE 4310-HC-P